DEPARTMENT OF HEALTH AND HUMAN SERVICES

National Institutes of Health

Office of the Director, National Institutes of Health; Notice of Meeting

Pursuant to section 10(a) of the Federal Advisory Committee Act, as amended (5 U.S.C. App.), notice is hereby given of a meeting of the Advisory Committee to the Deputy Director for Intramural Research, National Institutes of Health.

The meeting will be open to the public, with attendance limited to the number of phone lines. Individuals who plan to attend and need special assistance, should notify the Contact Person listed below in advance of the meeting.

Name of Committee: Advisory Committee to the Deputy Director for Intramural Research, National Institutes of Health.

Date: August 12, 2016.

Time: 1 p.m. to 2:30 p.m.

Agenda: To discuss: (1) The Advisory Committee to the Deputy Director for Intramural Research (AC DDIR) Report on the Site Visit Review of the Office of Human Research Subject Research Protection; (2) the recommendations for the Office of Human Subjects Research Protections program; and (3) the AC DDIR Implementation Report.

Place: National Institutes of Health, Teleconference, Participant Passcode: 15443, Conference Line: 888-233-9215, Bethesda, MD 20892 (Telephone Conference Call).

Contact Person: Margaret McBurney, Program Specialist, Office of the Director for Intramural Research, National Institutes of Health, Building One, Room 160, Bethesda, MD 20892, 301-496-1921, mmburney@od.nih.gov.

Any interested person may file written comments with the committee by forwarding the statement to the Contact Person listed on this notice. The statement should include the name, address, telephone number and when applicable, the business or professional affiliation of the interested person.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: July 8, 2016.
Anna Snouffer,
Deputy Director, Office of Federal Advisory Committee Policy.

[FR Doc. 2016-16595 Filed 7-13-16; 8:45 am]

BILLING CODE 4140-01-P